ENVIRONMENTAL PROTECTION AGENCY

[ER-FRL-6675-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in the Federal Register dated April 7, 2006 (71 FR 17845).

Draft EISs

EIS No. 20060034, ERP No. D-NRC-F06028-MN, GENERIC—License Renewal of Nuclear Plants, Supplement 26 to NUREG 1437, Regarding Monticello Nuclear Generating Plant (TAC NO. MC6441) Renewal of Operating License DRP-22 for Additional 20-Years of Operation, Mississippi River, City of Monticello, Wright County, MN.

Summary: EPA expressed environmental concerns about radiological impacts and risk estimates, future up rates, spent fuel storage facilities, and abnormal effluent releases.

Rating EC2.

EIS No. 20060077, ERP No. D-COE-E36184-FL, Central and Southern Florida Project, New Authorization for Broward County Water Preserve Areas, South Florida Water Management District (SFWMD), Comprehensive Everglades Restoration Plan, (CERP), Broward County, FL.

Summary: EPA fully supports the restoration components of the project and its expedited implementation. EPA requested quantification of water quality benefits and an exotics management plan.

Rating EC1.

EIS No. 20060089, ERP No. DS-AFS-L65400-ID, West Gold Creek Project, Updated Information, Forest Management Activities Plan, Implementation, Idaho Panhandle National Forests, Sandpoints Ranger District, Bonner County, ID.

Summary: EPA expressed environmental concerns about the potential adverse impacts to water quality and on the bull trout spawning area under the preferred alternative. The Final EIS should evaluate additional reductions in sediment loading to West Gold Creek.

Rating EC2.

Final EISs

EIS No. 20060112, ERP No. F-OSM-D36120-PA, ADOPTION—Dents Run Watershed Ecosystem Restoration, Construction and Operation of Six Acid Mine Drainage Abatement Projects, Implementation, Benezette Township, Susquehanna River Basin, Elk County, PA.

Summary: No formal comment letter was sent to the preparing agency.

EIS No. 20060116, ERP No. F-NPS-F65076-OH, First Ladies National Historic Site General Management Plan, Implementation, Canton, OH.

Summary: EPA does not object to the proposed action.

EIS No. 20060129, ERP No. F-FRC-E03014-FL, Cypress Pipeline Project and Phase VII Expansion Project, Construction and Operation, U.S. Army COE Section 10 and 404 Permits, Northern and Central Florida.

Summary: EPA continues to have environmental concerns about impacts to wetland.

EIS No. 20060134, ERP No. F-SFW-K99034-CA, Coachella Valley Multiple Species Habitat Conservation Plan (MSHCP), Santa Rosa and San Jacinto Mountains Trails Plan, Issuance of Incidental Take Permit, Riverside County, CA.

Summary: EPA does not object to the proposed action.

Dated: May 30, 2006.
Robert W. Hargrove,
Director, NEPA Compliance Division, Office of Federal Activities.

[FR Doc. E6-8593 Filed 6-1-06; 8:45 am]

BILLING CODE 6560-50-P